SMALL BUSINESS ADMINISTRATION

[License No. 05/05-0301]

Monroe Capital Partners Fund LP; Surrender of License of Small Business Investment Company

Pursuant to the authority granted to the United States Small Business Administration under the Small Business Investment Act of 1958, as amended, under section 309 of the Act and section 107.1900 of the Small Business Administration Rules and Regulations (13 CFR 107.1900) to function as a small business investment company under the Small Business Investment Company License No. 05/05-0301 issued to Monroe Capital Partners Fund LP, said license is hereby declared null and void.

Bailey Devries,
Associate Administrator, Office of Investment and Innovation, United States Small Business Administration.

[FR Doc. 2023-24303 Filed 11-2-23; 8:45 am]

BILLING CODE P